DEPARTMENT OF THE INTERIOR

Fish and Wildlife Service

[Docket No. FWS-R4-ES-2024-0134; FXES11140400000-245-FF04EF4000]

Receipt of Incidental Take Permit Application and Proposed Habitat Conservation Plan for the Audubon's Crested Caracara; Hardee County, FL; Categorical Exclusion

AGENCY: Fish and Wildlife Service, Interior.

ACTION: Notice of availability; request for comment.

SUMMARY: We, the Fish and Wildlife Service (Service), announce receipt of an application from Mosaic Fertilizer, LLC (applicant) for an incidental take permit (ITP) under the Endangered Species Act. The applicant requests the ITP to take a portion of the breeding territory of the federally listed crested caracara (Audubon's) [FL DPS] (Caracara plancus audubonii) incidental to the construction and operation of a phosphate mine in Hardee County, Florida. We request public comment on the application, which includes the applicant's proposed habitat conservation plan (HCP), and on the Service's preliminary determination that the proposed permitting action may be eligible for a categorical exclusion pursuant to the Council on Environmental Quality's National Environmental Policy Act (NEPA) regulations, the Department of the Interior's (DOI) NEPA regulations, and the DOI Departmental Manual. To make this preliminary determination, we prepared a draft environmental action statement and low-effect screening form, both of which are also available for public review. We invite comment from the public and local, State, Tribal, and Federal agencies.

DATES: We must receive your written comments on or before October 7, 2024.

ADDRESSES:

Obtaining Documents: The documents this notice announces, as well as any comments and other materials that we receive, will be available for public inspection online in Docket No. FWS-R4-ES-2024-0134 at https://www.regulations.gov.

Submitting Comments: If you wish to submit comments on any of the documents, you may do so in writing by one of the following methods:

• Online: https://www.regulations.gov. Follow the instructions for submitting comments on Docket No. FWS-R4-ES-2024-0134.

• U.S. mail: Public Comments Processing, Attn: Docket No. FWS-R4-ES-2024-0134; U.S. Fish and Wildlife Service, MS: PRB/3W, 5275 Leesburg Pike, Falls Church, VA 22041-3803.

FOR FURTHER INFORMATION CONTACT: Al Begazo, by U.S. mail (see ADDRESSES), by telephone at 772-226-8134, or via email at alfredo_begazo@fws.gov. Individuals in the United States who are deaf, deafblind, hard of hearing, or have a speech disability may dial 711 (TTY, TDD, or TeleBraille) to access telecommunications relay services. Individuals outside the United States should use the relay services offered within their country to make international calls to the point-of-contact in the United States.

SUPPLEMENTARY INFORMATION: We, the Fish and Wildlife Service (Service), announce receipt of an application from Mosaic Fertilizer, LLC (applicant) for an incidental take permit (ITP) under the Endangered Species Act of 1973, as amended (ESA; 16 U.S.C. 1531 et seq.). The applicant requests the ITP to take the crested caracara (Audubon's) [FL DPS] (Caracara plancus audubonii) (caracara), federally listed as threatened under the ESA, incidental to the construction and operation of a phosphate mine in Hardee County, Florida. We request public comments on the application, which includes the applicant's habitat conservation plan (HCP), and on the Service's preliminary determination that this proposed ITP qualifies as low effect, and may qualify for a categorical exclusion pursuant to the Council on Environmental Quality's National Environmental Policy Act (NEPA) regulations (40 CFR 1501.4), the Department of the Interior's (DOI) NEPA regulations (43 CFR part 46), and the DOI's Departmental Manual (516 DM 8.5(C)(2)). To make this preliminary determination, we prepared a draft environmental action statement and low-effect screening form, both of which are also available for public review.

Proposed Project

The applicant requests a 10-year ITP to take approximately 42.7 acres (ac) of the 70-ac primary zone of a caracara breeding territory incidental to the construction and operation of a phosphate mine on a 4,386.1-ac parcel in Hardee County. The primary zone of a caracara breeding pair is considered of vital importance for breeding success. The project site is located east of the South Fort Meade Mine and north of State Road 64, in sections 1-4 and 12-14, Township 33 South, Range 26 East, sections 5, 6, 8, 9, 14-16, 21-23, and 26-28, Township 33 South, and Range 27 East, at Latitude 27°36′10.1″/longitude 81°36′1.4″, Hardee County, Florida. The applicant proposes to minimize disturbance on nesting caracaras by conducting all mining activities within the 70-ac primary zone during the non-breeding season. To mitigate for the 47-ac portion of unavoidable impacts on the caracara's primary zone, the applicant proposes to donate $38,000 to restore 70 ac of caracara habitat per the Service's Audubon's crested caracara conservation guidelines.

Our Preliminary Determination

The Service has made a preliminary determination that the applicant's proposed project, including the construction and operation of a phosphate mine and associated infrastructure, would individually and cumulatively have a minor effect on the caracara and the human environment. Therefore, we have preliminarily determined that the proposed ESA section 10(a)(1)(B) permit would be a low-effect ITP that individually or cumulatively would have a minor effect on the caracara and may qualify for application of a categorical exclusion pursuant to the Council on Environmental Quality's NEPA regulations, DOI's NEPA regulations, and the DOI Departmental Manual. A low-effect ITP is one that would result in (1) minor or nonsignificant effects on species covered in the HCP; (2) nonsignificant effects on the human environment; and (3) impacts that, when added together with the impacts of other past, present, and reasonably foreseeable actions, would not result in significant cumulative effects to the human environment.

Next Steps

The Service will evaluate the application and the comments to determine whether to issue the requested ITP. We will also conduct an intra-Service consultation pursuant to section 7 of the ESA to evaluate the effects of the proposed take. After considering the preceding and other matters, we will determine whether the permit issuance criteria of section 10(a)(1)(B) of the ESA have been met. If met, the Service will issue ITP number PER11778402 to Mosaic Fertilizer, LLC.

Public Availability of Comments

Before including your address, phone number, email address, or other personal identifying information in your comment, be aware that your entire comment, including your personal identifying information, may be made available to the public. If you submit a comment at https://www.regulations.gov, your entire comment, including any personal identifying information, will be posted on the website. If you submit a hardcopy comment that includes personal identifying information, such as your address, phone number, or email address, you may request at the top of your document that we withhold this information from public review. However, we cannot guarantee that we will be able to do so. Moreover, all submissions from organizations or businesses, and from individuals identifying themselves as representatives or officials of organizations or businesses, will be made available for public disclosure in their entirety.

Authority

The Service provides this notice under section 10(c) of the Endangered Species Act (16 U.S.C. 1531 et seq.) and its implementing regulations (50 CFR 17.32) and the National Environmental Policy Act (42 U.S.C. 4321 et seq.) and its implementing regulations (40 CFR 1500-1508 and 43 CFR 46).

Robert L. Carey,
Manager, Division of Environmental Review, Florida Ecological Services Field Office.

[FR Doc. 2024-20084 Filed 9-5-24; 8:45 am]

BILLING CODE 4333-15-P